DEPARTMENT OF TRANSPORTATION

Federal Railroad Administration

[FRA Docket No. 87-2, Notice No. 10]

RIN 2130-AB20

Automatic Train Control (ATC) and Advanced Civil Speed Enforcement System (ACSES); Northeast Corridor (NEC) Railroads

AGENCY: Federal Railroad Administration (FRA), Department of Transportation (DOT).

ACTION: Amendments to Order of Particular Applicability Requiring ACSES Between New Haven, Connecticut and Boston, Massachusetts—Massachusetts Bay Transit Authority (MBTA) Temporary Operating Protocols.

SUMMARY: FRA amends its Order of Particular Applicability requiring all trains operating on the Northeast Corridor (NEC) between New Haven, Connecticut and Boston, Massachusetts (NEC—North End) to be equipped to respond to the new Advanced Civil Speed Enforcement System (ACSES) system. The amendments specify temporary operating protocols that will minimize the impact of ACSES on MBTA service during the initial implementation of ACSES on the NEC—North End.

DATES: The amendments to the Order are effective January 9, 2001.

FOR FURTHER INFORMATION CONTACT: W. E. Goodman, Staff Director, Signal and Train Control Division, Office of Safety, Mail Stop 25, FRA, 1120 Vermont Avenue, NW., Washington, DC 20590 ((202) 493-6325); Paul Weber, Railroad Safety Specialist, Signal and Train Control Division, Office of Safety, Mail Stop 25, FRA, 1120 Vermont Avenue, NW., Washington, DC 20590 ((202) 493-6258); or Patricia V. Sun, Office of Chief Counsel, Mail Stop 10, 1120 Vermont Avenue, NW., Washington, DC 20590 ((202) 493-6038).

SUPPLEMENTARY INFORMATION: The Order of Particular Applicability, as published on July 22, 1998, set performance standards for cab signal/automatic train control and ACSES systems, increased certain maximum authorized train speeds, and contained safety requirements supporting improved rail service on the NEC. 63 FR 39343. Among other requirements, the Order required all trains operating on track controlled by the National Railroad Passenger Corporation (Amtrak) between New Haven, Connecticut and Boston, Massachusetts (NEC—North End) to be controlled by locomotives equipped to respond to ACSES by October 1, 1999. In a later notice, FRA amended the Order to set a new implementation schedule and make technical changes. 65 FR 62795, October 19, 2000.

Massachusetts Bay Transit Authority (MBTA) Temporary Operating Protocols

FRA is making the amendments to this Order effective upon publication instead of 30 days after the publication date in order to realize the significant safety and transportation benefits afforded by the ACSES system at the earliest possible time. All affected parties have been notified. The temporary protocols specified below will provide a safe, operationally sound transition to full ACSES implementation on MBTA territory while minimizing the impact on MBTA service. FRA is not reopening the comment period since these technical changes will be effective only until July 1, 2001.

FRA expects MBTA to make every effort to run ACSES-equipped trains during the approximately six-month period that these protocols are in effect; this additional time should prove sufficient for MBTA to complete implementation of ACSES. However, if MBTA cannot dispatch a train equipped with ACSES, it may revert to the train control methods and maximum operating speeds in effect prior to the effective date of this Order.

Accordingly, for the reasons stated in the preamble, the Final Order of Particular Applicability at 65 FR 62797-62799 (October 19, 2000) (Order) is amended as follows:

1. The authority for the Order continues to read as follows: 49 U.S.C. 20103, 20107, 20501-20505 (1994); and 49 CFR 1.49(f), (g), and (m).

2. The unnumbered paragraph of the Order at 65 FR 62798 that reads “Effective October 21, 2000, the following performance standards and special requirements shall apply, except for paragraph 9(b), which shall apply February 1, 2001.” is deleted, and the following paragraph is inserted in its place: “Effective October 21, 2000, the following performance standards and special requirements shall apply, except for paragraph 9(b), which shall apply February 1, 2001, and paragraph 11, which shall apply January 9, 2001.”.

3. Paragraph 11 is added at the end of paragraph 10 of the Order at 65 FR 62799, to read as follows:

11. Massachusetts Bay Transit Authority (MBTA) Temporary Operating Protocols

(a) Effective upon January 9, 2001 until July 1, 2001, Amtrak must adhere to the following procedures if it becomes necessary to dispatch an MBTA train from its initial terminal with inoperative onboard ACSES equipment:

(1) The train dispatcher must verbally authorize the movement;

(2) The train dispatcher must issue a temporary speed restriction to limit the speed of high speed trains (Amtrak trains hauled by electric locomotives or electric power cars) to 110 miles per hour (mph) in the ACSES territory where the MBTA train with inoperative ACSES equipment will operate; and

(3) Once the MBTA train with inoperative ACSES equipment is verified to have cleared the ACSES territory, the train dispatcher may cancel the 110-mph speed restriction.

(b) The procedures set forth in subparagraph (a) of this paragraph must also be followed if it becomes necessary to dispatch an MBTA train from its initial terminal with a locomotive or control car that is not equipped with onboard ACSES equipment, if no ACSES-equipped MBTA locomotive or control car is available.

(c) Amtrak must promptly notify the regional headquarters office for Region 1 of FRA's Office of Safety of any invocations of this protocol. Included in the notification must be the date, time, and location of the incident, and the reason for invoking the protocol.

Issued in Washington, D.C. on January 3, 2001.
John V. Wells,
Acting Federal Railroad Administrator.

[FR Doc. 01-504 Filed 1-8-01; 8:45 am]

BILLING CODE 4910-06-P